DEPARTMENT OF DEFENSE

Board of Visitors, National Defense University; Notice of Federal Advisory Committee Meeting

AGENCY: Office of the Chairman of the Joint Chiefs of Staff, Department of Defense (DoD).

ACTION: Notice of Federal Advisory Committee meeting.

SUMMARY: The DoD is publishing this notice to announce that the following Federal Advisory Committee meeting of the Board of Visitors, National Defense University will take place.

DATES: Friday, December 11, 2020 from 10:00 a.m. to 3:15 p.m.

ADDRESSES: The meeting will be held online. Please see the Meeting Accessibility paragraph in the SUPPLEMENTARY INFORMATION section for more information.

FOR FURTHER INFORMATION CONTACT: Dr. Brian R. Shaw, (202) 664-2629 (Voice), (202) 685-3920 (Facsimile), brian.r.shaw8.civ@mail.mil; brian.r.shaw.civ@ndu.edu; Ms. Joycelyn Stevens, joycelyn.a.stevens.civ@mail.mil; stevensj7@ndu.edu (Email). Mailing address is National Defense University, Fort McNair, Washington, DC 20319-5066. website: http://www.ndu.edu/About/Board-of-Visitors/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Pursuant to 5 U.S.C. 552b and 41 CFR 102-3.140 through 102-3.165, this meeting is open to the public.

Purpose of the Meeting: The purpose of the meeting will include discussion on accreditation compliance, organizational management, strategic planning, resource management, and other matters of interest to the National Defense University.

Agenda: Friday, December 11, 2020 from 10:00 a.m. to 3:15 p.m. (Eastern Time): Call to Order and Administrative Notes; State of the University Address; NDU Transformation; NDU Strategic Plan: Past, Present and Future; Supporting the Academic Mission; Accreditation: Middle States Commission on Higher Education Self-Study; Public Comment; Board of Visitors Member Deliberation and Feedback; Wrap-up and Closing Remarks.

Meeting Accessibility: The link to the virtual meeting will be posted on the NDU Board of Visitors website at https://www.ndu.edu/About/Board-of-Visitors/BOV-Dec-11-2020/ by December 4th, one week prior to the meeting. The most up to-date changes to the meeting agenda as well as additional supporting documents including instructions on how to log into the meeting will also be posted there.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: November 6, 2020.
Aaron T. Siegel,
Alternate OSD Federal Register Liaison Officer, Department of Defense.

[FR Doc. 2020-25093 Filed 11-12-20; 8:45 am]

BILLING CODE 5001-06-P